DEPARTMENT OF ENERGY

Federal Energy Regulatory Commission

[Project No. 14871-001]

New England Hydropower Company, LLC; Notice of Preliminary Permit Application Accepted for Filing and Soliciting Comments, Motions To Intervene, and Competing Applications

On August 2, 2018, New England Hydropower Company, LLC, filed an application for a preliminary permit, pursuant to section 4(f) of the Federal Power Act (FPA), proposing to study the feasibility of hydropower at Lock 47 on the Lehigh Canal in the city of Easton, Northampton County, Pennsylvania. The sole purpose of a preliminary permit, if issued, is to grant the permit holder priority to file a license application during the permit term. A preliminary permit does not authorize the permit holder to perform any land-disturbing activities or otherwise enter upon lands or waters owned by others without the owners' express permission.

The proposed Lehigh Canal Hugh Moore Park East Hydroelectric Project would consist of the following: (1) An existing 20-foot-high concrete gravity dam (i.e., the Chain Dam on the Lehigh River); (2) an existing impoundment with a storage capacity of 1,197 acre-feet at a normal maximum surface elevation of 192 feet mean sea level; (3) an existing 50-foot-wide, 2.5-mile-long canal that stretches from above the Chain Dam where water enters the canal to where it reconnects with the Lehigh River downstream, approximately one half of a mile above the Easton Dam; (4) a new 20-foot-wide, 40-foot-long intake channel parallel to Lock 47; (5) a new 16-foot by 32-foot powerhouse containing two Archimedes Screw turbine-generator units with a total capacity of 485 kilowatts; (6) a new 20-foot-wide, 40-foot-long tailrace channel; (7) a new 460-kilovolt, 210-foot-long transmission line connecting the powerhouse to a nearby grid interconnection point; and (8) appurtenant facilities. The proposed project would have an average annual generation of 3,398 megawatt-hours.

Applicant Contact: Ms. Carol Wasserman, Principal, New England Hydropower Company, LLC, 100 Cummings Center Drive, Suite 451C, Beverly, MA 01915; phone: (339) 293-3157.

FERC Contact: Monir Chowdhury; phone: (202) 502-6736.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14871-001.

More information about this project, including a copy of the application, can be viewed or printed on the “eLibrary” link of the Commission's website at http://www.ferc.gov/docs-filing/elibrary.asp. Enter the docket number (P-14871) in the docket number field to access the document. For assistance, contact FERC Online Support.

Dated: September 4, 2018.
Kimberly D. Bose,
Secretary.

[FR Doc. 2018-19553 Filed 9-7-18; 8:45 am]

BILLING CODE 6717-01-P